COMMITTEE FOR PURCHASE FROM PEOPLE WHO ARE BLIND OR SEVERELY DISABLED

Procurement List; Additions and Deletions

AGENCY: Committee for Purchase From People Who Are Blind or Severely Disabled.

ACTION: Additions to and Deletions from the Procurement List.

SUMMARY: This action adds products and services to the Procurement List that will be furnished by nonprofit agencies employing persons who are blind or have other severe disabilities, and deletes products previously furnished by such agencies.

DATES: Effective Date: 9/23/2013.

ADDRESSES: Committee for Purchase From People Who Are Blind or Severely Disabled, 1401 S. Clark Street, Suite 10800, Arlington, Virginia 22202-4149.

FOR FURTHER INFORMATION CONTACT: Barry S. Lineback, Telephone: (703) 603-7740, Fax: (703) 603-0655, or email CMTEFedReg@AbilityOne.gov.

SUPPLEMENTARY INFORMATION:

Additions

On 6/7/2013 (78 FR 34350-34351); 6/21/2013 (78 FR 37524-37525); 6/28/2013 (78 FR 38952-38953); and 7/8/2013 (78 FR 40727-40728), the Committee for Purchase From People Who Are Blind or Severely Disabled published notices of proposed additions to the Procurement List.

After consideration of the material presented to it concerning capability of qualified nonprofit agencies to provide the products and services and impact of the additions on the current or most recent contractors, the Committee has determined that the products and services listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 USC 8501-8506) in connection with the products and services proposed for addition to the Procurement List.

End of Certification

Accordingly, the following products and services are added to the Procurement List:

Products

Power Duster

NSN: 6850-01-517-1506—10 oz.

NSN: 6850-01-412-0040—10 oz. 12/BX

Cleaner, Brake Parts

NSN: 6850-01-167-0678—7 oz.

NPA: The Lighthouse for the Blind, St. Louis

Towel, Hazardous Material Absorbent, Cotton, Red

NSN: 4235-01-526-4342—15″ x 15″

NPA: Winston-Salem Industries for the Blind, Inc., Winston-Salem, NC

Contracting Activity: Defense Logistics Agency Aviation, Richmond, VA

Coverage: B-List for the Broad Government Requirement as aggregated by the Defense Logistics Agency Aviation, Richmond, VA.

Helmet, Safety, Cap Style, 6¾″ to 8″

NSN: 8415-00-935-3132—Blue

NSN: 8415-00-935-3139—White

NSN: 8415-00-935-3140—Yellow

NPA: Keystone Vocational Services, Sharon, PA

Contracting Activity: General Services Administration, Fort Worth, TX

Coverage: A-list for the Total Government Requirement as aggregated by the General Services Administration.

Services

Service Type/Location: Custodial Service, St. Elizabeths Campus, 2701 Martin Luther King Jr. Avenue SE., Washington, DC.

NPA: CW Resources, Inc., New Britain, CT.

Contracting Activity: General Services Administration, Public Buildings Service, Potomac Service Center, Washington, DC.

Service Type/Location: Grounds Maintenance Service, USCG, Air Station-Savannah, 1297 N Lightning Rd, Savannah, GA.

NPA: Goodwill Industries of the Coastal Empire, Inc., Savannah, GA.

Contracting Activity: U.S. Coast Guard Base, Miami, Miami, FL.

Service Type/Location: Janitorial and Landscape Service, Terminal Island Immigration and Customs Enforcement Facility, 2001 S. Seaside Ave, San Pedro, CA.

NPA: Los Angeles Habilitation House, Long Beach, CA.

Contracting Activity: Dept Of Homeland Security, U.S. Immigration and Customs Enforcement, Mission Support Dallas, Dallas, TX.

Service Type/Location: Custodial Service, National Counterdrug Training Center Campus, Annville, PA.

NPA: Opportunity Center, Incorporated, Wilmington, DE.

Contracting Activity: Dept of the Army, W7NX USPFO Activity PA ARNG, Annville, PA.

Service Type/Location: Integrated Prime Vendor Supply Chain Management Service, [to support production, assembly, receipt, storage, packaging, preservation, delivery and related products/services for Expeditionary Force Provider (EFP) Modules and Modification System Cold Weather] US Army, Product Manager Force Sustainment Systems, Natick, MA.

NPA: ReadyOne Industries (ROI), Inc., El Paso, TX.

Contracting Activity: Dept of the Army, W6QK ACC-APG Natick, Natick, MA.

Comments were received from one firm that stated a large share of its business comes from the same requiring office, and that more information was required for it to assess the potential impact on its firm. The commenter requested that the Procurement List addition process for this proposed addition be suspended indefinitely until a valid and comprehensive analysis was conducted in accordance with 41 CFR 51, including but not limited to, the impact assessment required by 41 CFR 51-2.4 on the current expeditionary market contractors that support PM FSS.

The Commission does not agree that a suspension of the proposed addition is necessary or appropriate. In the interest of transparency, the service requirement being added to the Procurement List at this time is more specifically described herein as Integrated Prime Vendor (IPV) Supply Chain Management (SCM) Service to support production, assembly, receipt, storage, packaging, preservation, delivery and related products/services for Expeditionary Force Provider (EFP) Modules and Modification System Cold Weather. The Commission may consider and determine whether other elements of, or additional tasks related to the Contracting Activity's requirement for IPV SCM Service are suitable for addition to the Procurement List in the future.

The Commission's regulations, specifically the section cited, require the Commission to consider the level of impact on the current contractor for the commodity or service being considered for addition to the Procurement List as part of its determination that a product or service is suitable. The Commission defines the current contractor as the commercial source from which the responsible Government contracting activity is procuring the product or service that is the subject of a proposed addition.

Accordingly, the Commission's impact analysis finding was that the Army Contracting Command—Aberdeen Proving Ground Natick Contracting Division, on behalf of PM FSS, does not have a current contract for the provision of Integrated Prime Vendor Supply Chain Management Service. Previously, PM FSS has obtained various requirements for equipment or related material through use of various DLA Prime Vendor contracts, under DLA's Special Operational Equipment Tailored Logistics Support and/or Fire Emergency Services Programs. No single vendor was guaranteed to receive orders from PM FSS; many other DOD customers make use of the prime vendor contracts. PM FSS requirements for kitting or other supply chain management services required were obtained through the DLA depot system.

The commenter also questioned whether the objectives of the proposed addition were in opposition to the goal of the AbilityOne Program to create employment opportunities for people who are blind or have other significant disabilities. 41 CFR 51-2.4 Determination of Suitability requires the Commission to consider the employment potential of each proposed addition before it can determine a product or service suitable for addition to the Procurement List. In this case, the Commission determined that there is employment potential for the workforce of people who are significantly disabled in the provision of acquisition support services, kitting, manufacturing and design, and warehousing. The designated nonprofit agency has identified Full Time Equivalent positions for more than 33 individuals with significant disabilities in the delivery of services.

The commenter specifically questioned whether the nonprofit agency would be a pass-through to large subcontractors, therefore not maximizing the potential for employment of people who are blind or significantly disabled. Commission regulations permit the subcontracting of a portion of the process for producing a product or providing a service on the Procurement List, provided that the portion of the process retained by the nonprofit agency generates employment for people who are blind or have significant disabilities. Subcontracting that is intended to be a routine part of production is required to be identified to the Commission at the time of proposed addition and any changes in the extent of subcontracting must be approved in advance by the Commission. In this case, the Commission determined that the proposed subcontracting is consistent with its regulations and that the portion of the work retained will create employment for people who are blind or significantly disabled.

Deletions

On 7/19/2013 (78 FR 43180), the Committee for Purchase From People Who Are Blind or Severely Disabled published notice of proposed deletions from the Procurement List.

After consideration of the relevant matter presented, the Committee has determined that the products listed below are no longer suitable for procurement by the Federal Government under 41 USC 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to provide the products to the Government.

3. There are no known regulatory alternatives which would accomplish the objectives of the Javits-Wagner-O'Day Act (41 USC 8501-8506) in connection with the products deleted from the Procurement List.

End of Certification

Accordingly, the following products are deleted from the Procurement List:

Products

NSN: 8125-00-NIB-0031—Spray Bottle, Green Solutions High Dilution 256 Neutral Disinfectant, Silk Screened, 12-32oz bottles

NPA: Susquehanna Association for the Blind and Vision Impaired, Lancaster, PA

Contracting Activity: Department of Veterans Affairs, National Acquisition Center, Hines, IL

NSN: 8465-01-592-1361—Sheath, Combination Tool Plastic

NPA: Development Workshop, Inc., Idaho Falls, ID

Contracting Activity: General Services Administration, Fort Worth, TX

Barry S. Lineback,
Director, Business Operations.

[FR Doc. 2013-20624 Filed 8-22-13; 8:45 am]

BILLING CODE 6353-01-P